NATIONAL ARCHIVES AND RECORDS ADMINISTRATION

[NARA-2017-024]

Advisory Committee on the Presidential Library-Foundation Partnerships

AGENCY: National Archives and Records Administration (NARA).

ACTION: Notice of Federal Advisory Committee Meeting Change.

SUMMARY: In accordance with the Federal Advisory Committee Act, as amended (5 U.S.C. appendix 2), the National Archives and Records Administration announces an upcoming Advisory Committee on Presidential Library-Foundation Partnerships meeting.

DATES: The meeting will be Thursday, February 23, 2017, from 9:00 a.m. to 12:00 noon.

Location: National Archives and Records Administration (NARA); 700 Pennsylvania Avenue NW., Room 105; Washington, DC 20408.

FOR FURTHER INFORMATION CONTACT: Denise LeBeck, by telephone at 301-837-3250, or by email at denise.lebeck@nara.gov.

SUPPLEMENTARY INFORMATION: The original notice about this meeting stated it was scheduled for February 29, 2017, at 10:00 a.m. (see 81 FR 94426, December 23, 2016). However, that was an incorrect date. This notice changes the meeting date to February 23, 2017, to reflect the actual meeting date.

The meeting's purpose is to discuss the Presidential Library program and topics related to public-private partnerships between Presidential Libraries and Presidential Foundations. The meeting is open to the public. Meeting attendees may enter from the Pennsylvania Avenue entrance, and must show photo identification to enter. No visitor parking is available at the Archives building; however, there are commercial parking lots and metered curb parking nearby.

Patrice Little Murray,
Committee Management Officer.

[FR Doc. 2017-01129 Filed 1-18-17; 8:45 am]

BILLING CODE 7515-01-P